DEPARTMENT OF THE INTERIOR

Fish and Wildlife Service

50 CFR Part 32

RIN 1018-AU14

2005-2006 Refuge-Specific Hunting and Sport Fishing Regulations; Corrections

AGENCY: Fish and Wildlife Service, Interior.

ACTION: Correcting amendments.

SUMMARY: The Fish and Wildlife Service published a document in the Federal Register on September 13, 2005 (70 FR 54146), amending 50 CFR part 32. This document related to the addition of refuges and wetland management districts to the list of areas open for hunting and/or sport fishing programs and increased the activities available at other refuges. We also developed pertinent refuge-specific regulations for those activities and amended certain regulations on other refuges that pertain to migratory game bird hunting, upland game hunting, big game hunting, and sport fishing for the 2005-2006 season. This document corrects the final regulations.

DATES: Effective September 27, 2005.

FOR FURTHER INFORMATION CONTACT: Leslie Marler, (703) 358-2397.

SUPPLEMENTARY INFORMATION: Most corrections are in the instructions to the typesetters for adding or revising paragraphs in the regulatory text section. Two corrections are for spelling, and one correction is for section number.

List of Subjects in 50 CFR Part 32

Fishing, Hunting, Reporting and recordkeeping requirements, Wildlife, Wildlife refuges.

Accordingly, 50 CFR part 32 is corrected by making the following correcting amendments:

PART 32—HUNTING AND FISHING

1. The authority citation for part 32 continues to read:

Authority: 5 U.S.C. 301; 16 U.S.C. 460k, 664, 668dd-668ee, and 715i.

§ 32.37 [Amended]

2. Amending § 32.37 Louisiana by:

a. Revising in instruction 15.c. the spelling of “Boque Chitto National Wildlife Refuge” to read “Bogue Chitto National Wildlife Refuge;”;

b. Revising instruction 15.e. to read as follows: “Revising paragraphs A.1. and A.8., adding paragraphs A.21. through A.25., revising paragraphs B.1. and C.1., redesignating paragraphs C.3. through C.8. as paragraphs C.4. through C.9. respectively, adding a new paragraph C.3., revising newly redesignated paragraphs C.4. and C.5., and adding paragraphs C.10., D.10., and D.11. of Cat Island National Wildlife Refuge;”;

c. Revising the alphabetical listing of “Boque Chitto National Wildlife Refuge” to read “Bogue Chitto National Wildlife Refuge”; and

d. Revising paragraph designation “C.9.” to read “C.10.” of Cat Island National Wildlife Refuge.

§ 32.40 [Amended]

3. Amending § 32.40 Massachusetts instruction 18.b. to read as follows: “Revising Great Meadows National Wildlife Refuge; and”.

4. Amending § 32.44 Missouri by redesignating paragraphs C.5. through C.8. as C.6. through C.9. and adding a new C.5. to Mingo National Wildlife Refuge to read as follows:

§ 32.44 Missouri.

* * * * *

Mingo National Wildlife Refuge

* * * * *

C. * * *

5. We allow spring turkey hunting. We only allow shotguns with approved nontoxic shot (see § 32.2(k)).

* * * * *

§ 32.50 [Amended]

5. Amending § 32.50 New Mexico by revising instruction 25 to read as follows: “Amend § 32.50 New Mexico by revising paragraph A.2. and adding paragraph B.3. of Bosque del Apache National Wildlife Refuge to read as follows:”.

§ 32.52 [Amended]

6. Amending § 32.52 North Carolina by revising instruction 27.a. to read as follows: “Revising paragraph A.5., adding paragraphs A.6. and A.7., revising paragraphs B.1. through B.4., and C.1. through C.4., and removing paragraph C.5. of Alligator River National Wildlife Refuge; and”.

§ 32.56 [Amended]

7. Amend § 32.56 Oregon by:

a. Revising instruction 30.a. to read as follows: “Adding paragraphs A.9. and B.6. of Cold Springs National Wildlife Refuge;”;

b. Revising instruction 30.c. to read as follows: “Adding paragraph A.8. and revising paragraph B.1. of McKay Creek National Wildlife Refuge; and”; and

c. Revising paragraph designation B.3. to read B.6. of Cold Springs National Wildlife Refuge.

§ 32.62 [Amended]

8. Amend § 32.62 Tennessee by:

a. Revising instruction 34 to read “Amend § 32.62 Tennessee by:”; and

b. Revising the section heading “§ 32.63 Tennessee.” to read “§ 32.62 Tennessee.”.

§ 32.63 [Amended]

9. Amend § 32.63 Texas instruction 35.d. by revising the spelling of “Laguna Atascosca National Wildlife Refuge;” to read “Laguna Atascosa National Wildlife Refuge;”.

§ 32.66 [Amended]

10. Amend § 32.66 Virginia by amending instruction 37.a. to read: “Adding paragraph C.2.vi. of Chincoteague National Wildlife Refuge;”.

Dated: September 20, 2005.
Leslie A. Marler,
National Wildlife Refuge System Federal Register Liaison.

[FR Doc. 05-19073 Filed 9-26-05; 8:45 am]

BILLING CODE 4310-55-P